DEPARTMENT OF COMMERCE

National Oceanic and Atmospheric Administration

Proposed Information Collection; Comment Request; NMFS Alaska Region Vessel Monitoring System (VMS) Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 27, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, 907-586-7008 or patsy.bearden@noaa.gov.

SUPPLEMENTARY INFORMATION:

I. Abstract

Authorized under the Magnuson-Stevens Act, participants are required to purchase, install, and operate a National Marine Fisheries Service (NMFS)-approved vessel monitoring system (VMS) under certain circumstances, to provide more precise location information in the Bering Sea, Aleutian Islands, and Gulf of Alaska. This information supports enforcement efforts in relation to: (1) A number of fisheries, including: Atka mackerel, pollock, Pacific cod, BSAI crab; (2) essential fish habitat; and (3) habitat areas of particular concern in the Aleutian Islands and Gulf of Alaska. VMS requirements are described at 50 CFR part 679.28. The VMS transmitter automatically determines the vessels position several times per hour using Global Positioning System (GPS) satellite. A communications service provider receives the transmission and relays it to NMFS. The VMS transmitters are designed to be tamper-resistant and automatic. In most cases, the vessel owner is unaware of exactly when the unit is transmitting and is unable to alter the signal or the time of transmission.

II. Method of Collection

VMS check-in, by FAX, is required from participants upon installation of a VMS on a vessel. Thereafter, submittal is automatic by satellite.

III. Data

OMB Number: 0648-0445.

Form Number: None.

Type of Review: Regular submission.

Affected Public: Individuals or households; business or other for-profits organizations.

Estimated Number of Respondents: 1,854.

Estimated Time Per Response: 12 minutes for VMS check-in report; 6 seconds for VMS transmission; 6 hours for VMS installation; 4 hours for VMS maintenance.

Estimated Total Annual Burden Hours: 23,882.

Estimated Total Annual Cost to Public: $1,145,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 24, 2006.
Gwellnar Banks,
Management Analyst, Office of the Chief Information Officer.

[FR Doc. E6-6380 Filed 4-27-06; 8:45 am]

BILLING CODE 3510-22-P